OFFICE OF PERSONNEL MANAGEMENT

Proposed Collection; Equal Employment Opportunity Commission (EEOC) Form, Demographic Information on Applicants, OMB No. 3046-0046

AGENCY: U.S. Office of Personnel Management.

ACTION: Notice.

SUMMARY: The Office of Personnel Management (OPM), Employee Services proposes to add an Equal Employment Opportunity Commission (EEOC) form, Demographic Information on Applicants, OMB No. 3046-0046, which is already approved by Office of Management and Budget (OMB), to USAJOBS® in order to collect the information requested by the form in a central location for the Federal government. Completion of the form by applicants is voluntary. For those who choose to complete the form, however, the collection of the information through USAJOBS will be convenient for the applicant as well as the agency. Additionally, it is consistent with the announced purpose of the form—to assist Federal agencies in reassessing and improving their efforts to reach all segments of the population through their recruitment processes. The collection of data through this form also can be used by Federal agencies, along with other demographic information, as part of their organizational self-analyses to determine whether barriers exist that might exclude certain groups. No individual personnel selections will be made based on this information as the information must be kept separate from the application.

DATES: This change will become effective without further notice on September 1, 2010.

ADDRESS: U.S. Office of Personnel Management, Employment Services, USAJOBS, 1900 E. Street, NW., Washington, DC 20415, Attention: Patricia Stevens or sent via electronic mail to patricia.stevens@opm.gov.

FOR FURTHER INFORMATION CONTACT: U.S. Office of Personnel Management, Employment Services, USAJOBS, 1900 E. Street, NW., Washington, DC 20415, Attention: Patricia Stevens or sent via electronic mail to patricia.stevens@opm.gov.

U.S. Office of Personnel Management.
John Berry,
Director.

[FR Doc. 2010-18901 Filed 7-30-10; 8:45 am]

BILLING CODE 6325-38-P